DEPARTMENT OF TRANSPORTATION

Federal Aviation Administration

14 CFR Part 39

[Docket No. FAA-2004-19522; Directorate Identifier 2004-CE-36-AD]

RIN 2120-AA64

Airworthiness Directives; CENTRAIR 101 Series Gliders

AGENCY: Federal Aviation Administration (FAA), DOT.

ACTION: Notice of proposed rulemaking (NPRM).

SUMMARY: The FAA proposes to adopt a new airworthiness directive (AD) for certain CENTRAIR 101 series gliders. This proposed AD would require you to replace non-strengthened rudder pedals with reinforced rudder pedals. This proposed AD results from mandatory continuing airworthiness information (MCAI) issued by the airworthiness authority for France. We are issuing this proposed AD to replace the non-strengthened rudder pedals, to prevent failure of the rudder controls. This failure could lead to loss of directional control of the glider.

DATES: We must receive any comments on this proposed AD by January 14, 2005.

ADDRESSES: Use one of the following to submit comments on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: 1-202-493-2251.

• Hand Delivery: Room PL-401 on the plaza level of the Nassif Building, 400 Seventh Street, SW., Washington, DC, between 9 a.m. and 5 p.m., Monday through Friday, except Federal holidays.

To get the service information identified in this proposed AD, contact CENTRAIR, Aerodome B.P.N. 44, 36300 Le Blanc, France; telephone: 02.54.37.07.96; facsimile: 02.54.37.48.64.

To view the comments to this proposed AD, go to http://dms.dot.gov. This is docket number FAA-2004-19522.

FOR FURTHER INFORMATION CONTACT: Greg Davison, Aerospace Engineer, FAA, Small Airplane Directorate, 901 Locust, Room 301, Kansas City, Missouri 64106; telephone: (816) 329-4130; facsimile: (816) 329-4090.

SUPPLEMENTARY INFORMATION:

Comments Invited

How do I comment on this proposed AD? We invite you to submit any written relevant data, views, or arguments regarding this proposal. Send your comments to an address listed under ADDRESSES. Include the docket number, “FAA-2004-19522; Directorate Identifier 2004-CE-36-AD” at the beginning of your comments. We will post all comments we receive, without change, to http://dms.dot.gov, including any personal information you provide. We will also post a report summarizing each substantive verbal contact with FAA personnel concerning this proposed rulemaking. Using the search function of our docket Web site, anyone can find and read the comments received into any of our dockets, including the name of the individual who sent the comment (or signed the comment on behalf of an association, business, labor union, etc.). This is docket number FAA-2004-19522. You may review the DOT's complete Privacy Act Statement in the Federal Register published on April 11, 2000 (65 FR 19477-78), or you may visit http://dms.dot.gov.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Docket Information

Where can I go to view the docket information? You may view the AD docket that contains the proposal, any comments received, and any final disposition in person at the DMS Docket Offices between 9 a.m. and 5 p.m. (eastern standard time), Monday through Friday, except Federal holidays. The Docket Office (telephone 1-800-647-5227) is located on the plaza level of the Department of Transportation NASSIF Building at the street address stated in ADDRESSES. You may also view the AD docket on the Internet at http://dms.dot.gov. The comments will be available in the AD docket shortly after the DMS receives them.

Discussion

What events have caused this proposed AD? The Direction Générale de l'Aviation Civile (DGAC), which is the airworthiness authority for France, recently notified FAA that an unsafe condition may exist on certain CENTRAIR 101 series gliders. The DGAC reports finding previously undetected cracks or poorly repaired cracks on several CENTRAIR 101 series gliders at the weld seam between the hinge tube and the vertical tube of the rudder pedal. The rupture of this weld could lead to failure of the rudder controls.

What is the potential impact if FAA took no action? Failure of the rudder controls could lead to loss of directional control of the glider.

Is there service information that applies to this subject? CENTRAIR has issued Société Nouvelle Centrair Service Bulletin No. 101-24, dated March 5, 2003 (this is the date of the French AD 2003-095(a) that transmitted the service bulletin).

What are the provisions of this service information? The service bulletin includes procedures for:

—Immediately inspecting (using dye penetrant) the weld between the hinge tube and the vertical tube on both rudder pedals for any cracks;

—Immediately replacing any rudder pedal if a crack is found; and

—Eventually replacing any non-strengthened rudder pedals with a reinforced rudder pedal.

What action did the DGAC take? The DGAC classified this service bulletin as mandatory and issued French AD Number 2003-095(A), dated March 5, 2003, to ensure the continued airworthiness of these gliders in France.

Did the DGAC inform the United States under the bilateral airworthiness agreement? These CENTRAIR 101 series gliders are manufactured in France and are type-certificated for operation in the United States under the provisions of section 21.29 of the Federal Aviation Regulations (14 CFR 21.29) and the applicable bilateral airworthiness agreement.

Under this bilateral airworthiness agreement, the DGAC has kept us informed of the situation described above.

FAA's Determination and Requirements of This Proposed AD

What has FAA decided? We have examined the DGAC's findings, reviewed all available information, and determined that AD action is necessary for products of this type design that are certificated for operation in the United States.

Since the unsafe condition described previously is likely to exist or develop on other CENTRAIR 101 series gliders of the same type design that are registered in the United States, we are proposing AD action to replace the non-strengthened rudder pedals, which could result in failure of the rudder controls. This failure could lead to loss of directional control of the glider.

What would this proposed AD require? This proposed AD would require you to replace non-strengthened rudder pedals with reinforced rudder pedals, part number (P/N) $Y185A for the left-hand rudder pedal and P/N $Y196A for the right-hand rudder pedal.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many gliders would this proposed AD impact? We estimate that this proposed AD affects 56 gliders in the U.S. registry.

What would be the cost impact of this proposed AD on owners/operators of the affected gliders? We estimate the following costs to do this proposed rudder pedal replacement. We have no way of determining the number of gliders that may need this rudder pedal replacement:

Labor cost per rudder pedal | Parts cost | Total cost per glider
4 workhours × $65 per hour = $260 | $162 (for each rudder pedal) × 2 = $324 | $584

Regulatory Findings

Would this proposed AD impact various entities? We have determined that this proposed AD would not have federalism implications under Executive Order 13132. This proposed AD would not have a substantial direct effect on the States, on the relationship between the national Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD and placed it in the AD Docket. You may get a copy of this summary by sending a request to us at the address listed under ADDRESSES. Include “AD Docket FAA-2004-19522; Directorate Identifier 2004-CE-36-AD” in your request.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

CENTRAIR: Docket No. FAA-2004-19522; Directorate Identifier 2004-CE-36-AD.

When Is the Last Date I Can Submit Comments on This Proposed AD?

(a) We must receive comments on this proposed airworthiness directive (AD) by January 14, 2005.

What Other ADs Are Affected by This Action?

(b) None.

What Gliders Are Affected by This AD?

(c) This AD affects Models 101, 101A, 101AP, and 101P gliders, serial numbers 101xx001 through 101xx285 and 101D0501 through 101D0530, certificated in any category.

What Is the Unsafe Condition Presented in This AD?

(d) This AD is the result of mandatory continuing airworthiness information (MCAI) issued by the airworthiness authority for France. We are issuing this AD to replace the non-strengthened rudder pedals, and prevent failure of the rudder controls. This failure could lead to loss of directional control of the glider.

What Must I Do To Address This Problem?

(e) To address this problem, you must do the following:

Actions | Compliance | Procedures
(1) Replace any non-strengthened rudder pedals with reinforced rudder pedals: (i) The left-hand reinforced rudder pedal is part number (P/N) $Y185A; and (ii) The right-hand reinforced rudder pedal is P/N $Y196A. | Within the next 25 hours time-in-service (TIS) after the effective date of this AD, unless already done | Follow Société Nouvelle Centrair Service Bulletin No. 101-24, dated March 5, 2003 (this is the date of the French AD 2003-095(a) that transmitted the service bulletin). The applicable glider maintenance manual also addresses this issue.
(2) Do not install any non-strengthened rudder pedal as specified in paragraphs (e)(1)(i) and (e)(1)(ii) of this AD | As of the effective date of this AD | Not Applicable.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Greg Davison, Aerospace Engineer, FAA, Small Airplane Directorate, 901 Locust, Room 301, Kansas City, Missouri 64106; telephone: (816) 329-4130; facsimile: (816) 329-4090.

Is There Other Information That Relates to This Subject?

(g) French AD 2003-095(A), dated March 5, 2003, also addresses the subject of this AD.

May I Get Copies of the Documents Referenced in This AD?

(h) To get copies of the documents referenced in this AD, contact CENTRAIR, Aerodome B.P.N. 44, 36300 Le Blanc, France; telephone: 02.54.37.07.96; facsimile: 02.54.37.48.64. To view the AD docket, go to the Docket Management Facility; U.S. Department of Transportation, 400 Seventh Street, SW., Nassif Building, Room PL-401, Washington, DC, or on the Internet at http://dms.dot.gov. This is docket number FAA-2004-19522.

Issued in Kansas City, Missouri, on December 6, 2004.
Scott L. Sedgwick,
Acting Manager, Small Airplane Directorate, Aircraft Certification Service.

[FR Doc. 04-27197 Filed 12-10-04; 8:45 am]

BILLING CODE 4910-13-P